DEPARTMENT OF ENERGY

Federal Energy Regulatory Commission

Combined Notice of Filings #1

Take notice that the Commission received the following electric rate filings:

Docket Numbers: ER15-1882-005.

Applicants: PSEG Energy Resources & Trade LLC.

Description: Compliance filing: Informational Filing Pursuant to Schedule 2 of the PJM Interconnection to be effective N/A.

Filed Date: 10/12/21.

Accession Number: 20211012-5103.

Comment Date: 5 p.m. ET 11/2/21.

Docket Numbers: ER18-1222-007.

Applicants: PSEG Energy Resources & Trade LLC.

Description: Compliance filing: Informational Filing Pursuant to Schedule 2 of the PJM Interconnection to be effective N/A.

Filed Date: 10/12/21.

Accession Number: 20211012-5099.

Comment Date: 5 p.m. ET 11/2/21.

Docket Numbers: ER20-1906-002.

Applicants: Story County Wind, LLC.

Description: Compliance filing: Revised Tariff Records Under Docket ER20-1906 to be effective 8/1/2020.

Filed Date: 10/12/21.

Accession Number: 20211012-5097.

Comment Date: 5 p.m. ET 11/2/21.

Docket Numbers: ER20-2239-004.

Applicants: Southwest Power Pool, Inc.

Description: Compliance filing: Compliance Filing in Response to Order issued in ER20-2239 (KPP) to be effective 9/1/2020.

Filed Date: 10/12/21.

Accession Number: 20211012-5371.

Comment Date: 5 p.m. ET 11/2/21.

Docket Numbers: ER20-2330-001.

Applicants: Midcontinent Independent System Operator, Inc.

Description: Compliance filing: 2021-10-12_SA 2925 ITC Midwest-MEC Sub 1st Rev GIA (J344) to be effective 6/30/2020.

Filed Date: 10/12/21.

Accession Number: 20211012-5156.

Comment Date: 5 p.m. ET 11/2/21.

Docket Numbers: ER20-2331-002.

Applicants: Midcontinent Independent System Operator, Inc.

Description: Compliance filing: 2021-10-12_SA 3511 ITC Midwest-MEC Sub FSA (J344) to be effective 9/6/2020.

Filed Date: 10/12/21.

Accession Number: 20211012-5159.

Comment Date: 5 p.m. ET 11/2/21.

Docket Numbers: ER20-2332-001.

Applicants: Midcontinent Independent System Operator, Inc.

Description: Compliance filing: 2021-10-12_SA 3052 ITC-IPL Sub 1st Rev FCA (J438) to be effective 6/30/2020.

Filed Date: 10/12/21.

Accession Number: 20211012-5141.

Comment Date: 5 p.m. ET 11/2/21.

Docket Numbers: ER20-2333-002.

Applicants: Midcontinent Independent System Operator, Inc.

Description: Compliance filing: 2021-10-12_SA 3523 ITC-IPL Sub Orig FSA (J438) to be effective 6/30/2020.

Filed Date: 10/12/21.

Accession Number: 20211012-5147.

Comment Date: 5 p.m. ET 11/2/21.

Docket Numbers: ER20-2340-001.

Applicants: Midcontinent Independent System Operator, Inc.

Description: Compliance filing: 2021-10-12_SA 2955 ITC Midwest-Interstate Power and Light Sub 2nd Rev GIA (J416) to be effective 7/1/2020.

Filed Date: 10/12/21.

Accession Number: 20211012-5252.

Comment Date: 5 p.m. ET 11/2/21.

Docket Numbers: ER20-2341-002.

Applicants: Midcontinent Independent System Operator, Inc.

Description: Compliance filing: 2021-10-12_SA 3518 ITC Midwest-Interstate Power and Light Substitute FSA (J416) to be effective 7/1/2020.

Filed Date: 10/12/21.

Accession Number: 20211012-5269.

Comment Date: 5 p.m. ET 11/2/21.

Docket Numbers: ER21-2682-001.

Applicants: Tri-State Generation and Transmission Association, Inc.

Description: Tariff Amendment: Supplement to Rate Schedule Amendment Filing to be effective 3/1/2021.

Filed Date: 10/12/21.

Accession Number: 20211012-5102.

Comment Date: 5 p.m. ET 11/2/21.

Docket Numbers: ER21-2838-001.

Applicants: Public Service Company of Colorado.

Description: Tariff Amendment: 2021-10-12 Gen Rplcmt Coord Agrmt-Excel Engineering-Amnd to be effective 9/4/2021.

Filed Date: 10/12/21.

Accession Number: 20211012-5335.

Comment Date: 5 p.m. ET 11/2/21.

Docket Numbers: ER22-68-001.

Applicants: Citizens Sycamore-Penasquitos Transmission LLC.

Description: Tariff Amendment: Annual TRBAA Filing to be effective 1/1/2022.

Filed Date: 10/8/21.

Accession Number: 20211008-5271.

Comment Date: 5 p.m. ET 10/29/21.

Docket Numbers: ER22-81-000.

Applicants: Public Service Electric and Gas Company, PJM Interconnection, L.L.C.

Description: Compliance filing: Public Service Electric and Gas Company submits tariff filing per 35: PSEG submits Compliance Filing re: ER21-2450 Letter Order to be effective 8/1/2021.

Filed Date: 10/12/21.

Accession Number: 20211012-5100.

Comment Date: 5 p.m. ET 11/2/21.

Docket Numbers: ER22-82-000.

Applicants: PJM Interconnection, L.L.C.

Description: § 205(d) Rate Filing: Original WMPA SA No. 6212; Queue No. AG1-388 to be effective 9/10/2021.

Filed Date: 10/12/21.

Accession Number: 20211012-5101.

Comment Date: 5 p.m. ET 11/2/21.

Docket Numbers: ER22-83-000.

Applicants: Pacific Gas and Electric Company.

Description: § 205(d) Rate Filing: Amendment to CCSF San Francisco Airport TFA (TO SA 284) to be effective 12/12/2021.

Filed Date: 10/12/21.

Accession Number: 20211012-5106.

Comment Date: 5 p.m. ET 11/2/21.

Docket Numbers: ER22-84-000.

Applicants: Southwest Power Pool, Inc.

Description: § 205(d) Rate Filing: 3023R2 Panama Wind GIA to be effective 9/17/2021.

Filed Date: 10/12/21.

Accession Number: 20211012-5113.

Comment Date: 5 p.m. ET 11/2/21.

Docket Numbers: ER22-85-000.

Applicants: Upper Missouri G. & T. Electric Cooperative, Inc.

Description: § 205(d) Rate Filing: Revised Rate Schedules FERC Nos. 5 and 7 to be effective 11/1/2021.

Filed Date: 10/12/21.

Accession Number: 20211012-5158.

Comment Date: 5 p.m. ET 11/2/21.

Docket Numbers: ER22-86-000.

Applicants: EnerSmart Chula Vista BESS LLC.

Description: Baseline eTariff Filing: Market-Based Rate Application to be effective 12/12/2021.

Filed Date: 10/12/21.

Accession Number: 20211012-5186.

Comment Date: 5 p.m. ET 11/2/21.

Docket Numbers: ER22-87-000.

Applicants: Southwest Power Pool, Inc., Basin Electric Power Cooperative.

Description: § 205(d) Rate Filing: Southwest Power Pool, Inc. submits tariff filing per 35.13(a)(2)(iii: 3843 Basin and Saskatchewan Power Corp Interconnection Agr to be effective 12/15/2021.

Filed Date: 10/12/21.

Accession Number: 20211012-5195.

Comment Date: 5 p.m. ET 11/2/21.

Docket Numbers: ER22-88-000.

Applicants: Tri-State Generation and Transmission Association, Inc.

Description: § 205(d) Rate Filing: Amendment to Rate Schedule No. 238 to be effective 12/13/2021.

Filed Date: 10/12/21.

Accession Number: 20211012-5245.

Comment Date: 5 p.m. ET 11/2/21.

Docket Numbers: ER22-89-000.

Applicants: New York Independent System Operator, Inc.

Description: ISO/RTO § 206 Filing: Section 206: ROFR rules for upgrades identified in Public Policy Process to be effective 10/8/2021.

Filed Date: 10/12/21.

Accession Number: 20211012-5002.

Comment Date: 5 p.m. ET 11/1/21.

Docket Numbers: ER22-90-000.

Applicants: Midcontinent Independent System Operator, Inc.

Description: § 205(d) Rate Filing: 2021-10-12_MISO Interregional Market Efficiency Project Cost Recovery Filing to be effective 12/13/2021.

Filed Date: 10/12/21.

Accession Number: 20211012-5263.

Comment Date: 5 p.m. ET 11/2/21.

Docket Numbers: ER22-91-000.

Applicants: TransCanada Energy Sales Ltd.

Description: Compliance filing: Cost Justification Filing to be effective N/A.

Filed Date: 10/12/21.

Accession Number: 20211012-5290.

Comment Date: 5 p.m. ET 11/2/21.

Docket Numbers: ER22-92-000.

Applicants: Southwestern Public Service Company.

Description: § 205(d) Rate Filing: SPS-EPE-T-Op-First Responder Agrmt-Emerg Svcs-722-0.0.0 to be effective 12/11/2021.

Filed Date: 10/12/21.

Accession Number: 20211012-5318.

Comment Date: 5 p.m. ET 11/2/21.

Docket Numbers: ER22-93-000.

Applicants: Tatanka Ridge Wind, LLC.

Description: § 205(d) Rate Filing: Filing of Reactive Rate Schedule FERC No. 1 to be effective 10/13/2021.

Filed Date: 10/12/21.

Accession Number: 20211012-5357.

Comment Date: 5 p.m. ET 11/2/21.

Docket Numbers: ER22-94-000.

Applicants: Basin Electric Power Cooperative.

Description: Initial rate filing: Submission of Interconnection Agreement and Amended Interconnection Agreement to be effective 12/1/2020.

Filed Date: 10/12/21.

Accession Number: 20211012-5394.

Comment Date: 5 p.m. ET 11/2/21.

Docket Numbers: ER22-95-000.

Applicants: Basin Electric Power Cooperative.

Description: Tariff Amendment: Submission of Notice of Cancellation to be effective 12/15/2021.

Filed Date: 10/12/21.

Accession Number: 20211012-5398.

Comment Date: 5 p.m. ET 11/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2021.
Kimberly D. Bose,
Secretary.

[FR Doc. 2021-22609 Filed 10-15-21; 8:45 am]

BILLING CODE 6717-01-P